DEPARTMENT OF TRANSPORTATION

Federal Aviation Administration

14 CFR Part 71

[Docket No. FAA-2021-1106; Airspace Docket No. 19-AAL-70]

RIN 2120-AA66

Amendment of United States Area Navigation (RNAV) Route T-266; Juneau, AK

AGENCY: Federal Aviation Administration (FAA), DOT.

ACTION: Final rule; correction.

SUMMARY: This action corrects a final rule published by the FAA in the Federal Register on October 24, 2022, that amends Area Navigation (RNAV) route T-266 in support of a large and comprehensive T-route modernization project for the state of Alaska. In the T-266 description in the final rule, the order of the listed route points was reversed in error. This action makes editorial corrections to list the T-266 route points to match the route data forms and the FAA National Airspace System Resource (NASR) database information.

DATES: Effective date 0901 UTC, December 29, 2022. The Director of the Federal Register approves this incorporation by reference action under 1 CFR part 51, subject to the annual revision of FAA Order 7400.11 and publication of conforming amendments.

ADDRESSES: FAA Order 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

History

The FAA published a final rule in the Federal Register (87 FR 64162; October 24, 2022), amending RNAV route T-266 in support of a large and comprehensive T-route modernization project for the state of Alaska. Subsequent to publication, the FAA determined that the T-266 route points listed in the route description did not match the order of the route points listed in the route data forms or the FAA NASR database. This rule corrects that mismatch of route points listed in the rule and in the route data forms and NASR database by reversing the order of the route points listed in the T-266 description published in the final rule.

This is an editorial change only to match the route data forms and FAA NASR database information and does not alter the alignment of the T-266 route.

United States Area Navigation Routes are published in paragraph 6011 of FAA Order JO 7400.11G, dated August 19, 2022, and effective September 15, 2022, which is incorporated by reference in 14 CFR 71.1. The RNAV T-route listed in this document will be published subsequently in FAA Order JO 7400.11.

Correction to Final Rule

Accordingly, pursuant to the authority delegated to me, RNAV route T-266 reflected in Docket No. FAA-2021-1106, as published in the Federal Register of October 24, 2022 (87 FR 64162), FR Doc. 2022-22411, is corrected as follows:

1. On page 64163, correct the table for T-266 Annette Island, AK (ANN) to SPUTA, AK [Amended] to read:

T-266 SPUTA, AK to Annette Island, AK (ANN) [Amended]
SPUTA, AK | WP | (Lat. 59°42'42.73″ N, long. 135°16'41.88″ W)
AKCAP, AK | WP | (Lat. 59°27'36.23″ N, long. 135°18'56.39″ W)
FEDMI, AK | WP | (Lat. 59°18'38.28″ N, long. 135°23'31.15″ W)
BAVKE, AK | WP | (Lat. 59°12'43.71″ N, long. 135°25'39.26″ W)
ROTVE, AK | WP | (Lat. 59°05'52.67″ N, long. 135°21'43.16″ W)
WONOS, AK | WP | (Lat. 59°00'16.62″ N, long. 135°20'12.89″ W)
COPOG, AK | WP | (Lat. 58°53'31.17″ N, long. 135°19'57.44″ W)
JAPOR, AK | WP | (Lat. 58°45'45.29″ N, long. 135°09'08.84″ W)
NIGPE, AK | WP | (Lat. 58°38'44.99″ N, long. 135°04'28.66″ W)
GUMLE, AK | WP | (Lat. 58°35'18.69″ N, long. 135°02'58.46″ W)
ZONPU, AK | WP | (Lat. 58°31'22.14″ N, long. 134°59'35.61″ W)
ZADED, AK | WP | (Lat. 58°20'24.09″ N, long. 134°48'30.77″ W)
RADKY, AK | FIX | (Lat. 58°08'00.39″ N, long. 134°29'55.53″ W)
XADZY, AK | WP | (Lat. 57°01'00.00″ N, long. 133°00'00.00″ W)
VULHO, AK | WP | (Lat. 56°49'05.00″ N, long. 132°49'30.00″ W)
YICAX, AK | WP | (Lat. 56°39'45.00″ N, long. 132°37'00.00″ W)
VAZPU, AK | WP | (Lat. 56°27'24.00″ N, long. 132°25'56.00″ W)
DOOZI, AK | FIX | (Lat. 55°37'57.14″ N, long. 132°10'28.73″ W)
Annette Island, AK (ANN) | VOR/DME | (Lat. 55°03'37.47″ N, long. 131°34'42.24″ W)

* * * * *

Issued in Washington, DC, on December 6, 2022.
Scott M. Rosenbloom,
Manager, Airspace Rules and Regulations.

[FR Doc. 2022-26850 Filed 12-9-22; 8:45 am]

BILLING CODE 4910-13-P